DEPARTMENT OF THE INTERIOR

Bureau of Land Management

[LLWY912000 L12100000.XX0000 252W.00]

Notice of Intent To Reestablish and Call for Nominations for the Wyoming Resource Advisory Council

AGENCY: Bureau of Land Management, Interior.

ACTION: Notice.

SUMMARY: The BLM is publishing this notice in accordance with the Federal Land Policy and Management Act (FLPMA) and the Federal Advisory Committee Act (FACA). The Bureau of Land Management (BLM) gives notice that the Secretary of the Interior is reestablishing the Wyoming Resource Advisory Council (RAC). This notice is also to solicit public nominations for the RAC. The RAC provides advice and recommendations on land use planning and management of the public lands within the State of Wyoming.

DATES: All nominations must be received no later than December 2, 2010.

ADDRESSES: Nominations should be sent to the Ms. Cindy Wertz, Wyoming State Office, Bureau of Land Management, 5353 Yellowstone Road, P.O. Box 1828, Cheyenne, WY 82003, (307) 775-6014.

FOR FURTHER INFORMATION CONTACT: Ms. Cindy Wertz, Public Affairs Specialist, Wyoming State Office, Bureau of Land Management, 5353 Yellowstone Road, Cheyenne, WY 82003, telephone (307) 775-6014; or e-mail Cindy_Wertz@blm.gov.

SUPPLEMENTARY INFORMATION: FLPMA (43 U.S.C. 1739) directs the Secretary of the Interior to involve the public in planning and issues related to management of lands administered by the BLM. Section 309 of FLPMA directs the Secretary to establish 10- to 15-member citizen-based advisory councils that are consistent with FACA. The rules governing RACs are found at 43 CFR subpart 1784. As required by FACA, RAC membership must be balanced and representative of the various interests concerned with the management of the public lands. These include three categories:

Category One—Holders of Federal grazing permits and representatives of organizations associated with energy and mineral development, timber industry, transportation or rights-of-way, developed outdoor recreation, off-highway vehicle use, and commercial recreation;

Category Two—Representatives of nationally or regionally recognized environmental organizations; archaeological and historic organizations, dispersed recreation activities, and wild horse and burro organizations; and

Category Three—Representatives of State, county, or local elected office; representatives and employees of a State agency responsible for managing natural resources; representatives of Indian tribes within or adjacent to the area for which the council is organized; representatives of academia who are employed in natural sciences; and the public-at-large.

Individuals may nominate themselves or others. Nominees must be residents of the State of Wyoming. The BLM will evaluate nominees based on their education, training, experience, and knowledge of the geographical area of the RAC. Nominees should demonstrate a commitment to collaborative resource decision-making. The Obama Administration prohibits individuals who are currently federally registered lobbyists from serving on any FACA and non-FACA boards, committees, or councils. The following must accompany all nominations:

—Letters of reference from represented interests or organizations;

—A completed background information nomination form; and

—Any other information that addresses the nominee's qualifications.

Simultaneous with this notice, the BLM Wyoming State Office will issue a press release providing additional information for submitting nominations, with specifics about the positions available on the RAC. The terms of the appointments range from 1 to 3 years in order to stagger future expirations.

Certification Statement: I hereby certify that the BLM Wyoming Resource Advisory Council is necessary and in the public interest in connection with the Secretary's responsibilities to manage the lands, resources, and facilities administered by the BLM.

Ken Salazar,
Secretary.

[FR Doc. 2010-26171 Filed 10-15-10; 8:45 am]

BILLING CODE 4310-84-P